DEPARTMENT OF ENERGY

Federal Energy Regulatory Commission

[Docket No. EC05-138-000]

Arroyo Energy LP, Calpine Energy Services, L.P., Calpine Merchant Services Company, Inc.; Notice of Filing

September 19, 2005.

Take notice that on September 13, 2005, Arroyo Energy LP (Arroyo Energy), Calpine Energy Services, L.P. (CES) and Calpine Merchant Services Company, Inc. (Applicants) filed an application pursuant to section 203 of the Federal Power Act requesting authorization from the Federal Energy Regulatory Commission for: (1) A proposed internal corporate restructuring upstream of Arroyo Energy; and (2) certain contractual arrangements pursuant to which CMSC would perform certain energy trading and related functions for and on behalf of each of CES and CalBear Energy LP, the successor of Arroyo Energy (Transaction). Applicants also request that the Commission grant limited waivers of its part 33 filing requirements to the extent that such information is not necessary to ensure that the Transaction meets the statutory requirements of section 203, and that the Commission grant confidential treatment of the contractual arrangements as they contain sensitive commercial and financial information. Applicants further request that the Commission issue an order authorizing the Transaction by October 18, 2005, to permit business under the proposed Transaction to commence as expeditiously as possible.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all the parties in this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on October 4, 2005.

Magalie R. Salas,
Secretary.

[FR Doc. E5-5241 Filed 9-27-05; 8:45 am]

BILLING CODE 6717-01-P